DEPARTMENT OF TRANSPORTATION

National Highway Traffic Safety Administration

[Docket No. NHTSA-2024-0008; Notice 1]

Michelin North America, Inc., Receipt of Petition for Decision of Inconsequential Noncompliance

AGENCY: National Highway Traffic Safety Administration (NHTSA), Department of Transportation (DOT).

ACTION: Receipt of petition.

SUMMARY: Michelin North America, Inc. (MNA) has determined that certain Uniroyal Laredo AT and Laredo HT replacement tires do not fully comply with Federal Motor Vehicle Safety Standard (FMVSS) No. 139, New Pneumatic Radial Tires for Light Vehicles. MNA filed a noncompliance report dated November 3, 2023, and subsequently petitioned NHTSA (the “Agency”) on November 28, 2023, for a decision that the subject noncompliance is inconsequential as it relates to motor vehicle safety. This document announces receipt of MNA's petition.

DATES: Send comments on or before March 31, 2025.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Jayton Lindley, General Engineer, NHTSA, Office of Vehicle Safety Compliance, (325) 655-0546.

SUPPLEMENTARY INFORMATION:

I. Overview: MNA determined that certain Uniroyal Laredo AT and Laredo HT replacement tires do not fully comply with paragraphs S5.5(a) and S5.5.1 of FMVSS No. 139, New Pneumatic Radial Tires for Light Vehicles (49 CFR 571.139).

MNA filed a noncompliance report dated November 3, 2023, pursuant to 49 CFR part 573, Defect and Noncompliance Responsibility and Reports. MNA petitioned NHTSA on November 28, 2023, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of MNA's petition is published under 49 U.S.C. 30118 and 30120 and does not represent any agency decision or another exercise of judgment concerning the merits of the petition.

II. Tires Involved: Approximately 251,209 Uniroyal Laredo AT and Laredo HT, manufactured between January 15, 2023, and October 29, 2023, were reported by the manufacturer.

III. Rule Requirements: Paragraphs S5.5(a) and S5.5.1 of FMVSS No. 139 and 49 CFR 574.5(b) include the requirements relevant to this petition. Paragraph S5.5(a) requires each tire to be labeled on each sidewall with the symbol DOT, which constitutes a certification that the tire conforms to applicable FMVSSs. Paragraph S5.5.1 requires that each tire (manufactured on or after September 1, 2009) must be labeled with the TIN, as required by 49 CFR part 574, on the intended outboard sidewall of the tire. Additionally, the TIN or a partial TIN (which includes all characters except for the date code and, optionally, any additional code at the manufacturer's discretion) must be labeled on the other sidewall of the tire.

IV. Noncompliance: MNA explains that the noncompliance is due to a mold error in which the subject tires are missing the required DOT symbol and the full or partial tire identification number (TIN) on one of the two sidewalls and therefore, do not comply with paragraphs S5.5(a) and S5.5.1 of FMVSS No. 139. The tires do have the required DOT symbol (and TIN) on the other sidewall.

V. Summary of MNA's Petition: The following views and arguments presented in this section, “V. Summary of MNA's Petition,” are the views and arguments provided by MNA. They have not been evaluated by the Agency and do not reflect the views of the Agency. MNA describes the subject noncompliance and contends that the noncompliance is inconsequential as it relates to motor vehicle safety.

MNA explains that an initial mold drawing, which was missing the required DOT symbol and TIN marking instructions for the affected sidewall plate, was used to create drawings for 65 additional tire sizes. As a result, a total of 66 tire sizes, in the Laredo AT and Laredo HT tire lines are affected by the subject noncompliance.

MNA asserts that the subject tires were both designed and manufactured according to ETRTO standards and that they meet all applicable FMVSS tire safety performance standards. Further, MNA indicates that the subject tires are correctly marked with the tire size information, along with the load range and maximum load in accordance with ETRTO standards. Moreover, MNA highlights that the DOT symbol and the full TIN are present on the other sidewall of the subject tires.

After discovering the subject noncompliance on October 19, 2023, MNA took the molds out of production. MNA says that the molds are currently undergoing repairs and will be returned to service once they comply with the applicable FMVSSs.

Based on the root cause analysis by MNA and Multistrada plant representatives, it was determined that the “marking test” procedure was not performed. To address this, updated documentation now requires “marking tests” for every tire size beginning production at the Multistrada plant. MNA says these tests will be reviewed by the Tire Designers, the Standards and Regulations team, and the Mold Designers to ensure compliance with the applicable FMVSSs. Furthermore, MNA says that additional training will be provided to Tire Designers and Mold Designers developing products manufactured at Multistrada to ensure they are knowledgeable about U.S. market regulations.

MNA asserts that the subject tires meet all applicable FMVSS tire safety performance standards and contain the DOT symbol and full TIN on the opposite sidewall. In the event of a future recall of Laredo AT or Laredo HT tires, MNA proposes to accept not only the tires specified in the recall, but also any Laredo AT or Laredo HT tires that are missing the DOT symbol, regardless of their date of manufacture. As a result, MNA says consumers will be able to determine if a tire is being recalled by a simple inspection from the side of the vehicle, thereby eliminating the need for consumers to inspect the inside sidewalls with a flashlight, remove and replace the subject tires, or seek assistance from a garage or service station to record the TIN.

MNA believes that by accepting all Laredo AT or Laredo HT tires without the DOT symbol on one sidewall in the event of a future recall, the difficulty and inconvenience for consumers to obtain the TIN would be removed. MNA states that this approach would increase the number of motorists responding to a recall campaign and reduce the likelihood of them continuing to drive vehicles with potentially unsafe tires. Additionally, MNA contends that since the date of manufacture is visible on the side with the full TIN, consumers can determine the age of the tire.

Michelin also notes that paragraph S6.5 of FMVSS No. 119, which pertains to light truck tires with a tread depth of 18/32 inch or greater, does not require the DOT symbol nor the TIN on both sidewalls. The subject tires, which can be purchased for light truck consumer use, are not considered to pose a safety risk in the event of a recall notification.

MNA concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that MNA no longer controlled at the time it determined that the noncompliance existed. However, any decision on this petition does not relieve tire distributors and dealers of the prohibitions on the sale, offer for sale, or introduction or delivery for introduction into interstate commerce of the noncompliant tires under their control after MNA notified them that the subject noncompliance existed.

(Authority: 49 U.S.C. 30118, 30120: delegations of authority at 49 CFR 1.95 and 501.8)

Otto G. Matheke III,
Director, Office of Vehicle Safety Compliance.

[FR Doc. 2025-03301 Filed 2-27-25; 8:45 am]

BILLING CODE 4910-59-P